FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than March 21, 2022.

A. Federal Reserve Bank of Chicago (Colette A. Fried, Assistant Vice President) 230 South LaSalle Street, Chicago, Illinois 60690-1414:

1. Sarah Schultz Freilinger, Monona, Iowa, individually, and as trustee of the Blake Schultz 2022 Irrevocable Trust, Des Moines, Iowa; and Stephanie Steele, Luana, Iowa; to become members of the Schultz Family Control Group, a group acting in concert, to retain voting shares of Luana Bancorporation, and thereby indirectly retain voting shares of Luana Savings Bank, both of Luana, Iowa.

B. Federal Reserve Bank of Kansas City (Jeffrey Imgarten, Assistant Vice President) 1 Memorial Drive, Kansas City, Missouri 64198-0001:

1. Timothy D. Wiens, Westminster, Colorado; Thomas J. Wiens, Sedalia, Colorado; and Vandy Sears, Cheyenne, Wyoming; to become members of the Wiens Family Group, a group acting in concert, to acquire voting shares of FirsTier II Bancorp., Cheyenne, Wyoming, and thereby indirectly acquire voting shares of FirsTier Bank, Kimball, Nebraska.

In addition, Jan Wiens, Westminster, Colorado; T. Jordan Wiens, Broomfield, Colorado; Lindsey Sears, Cheyenne, Wyoming; Diana Wiens and Travis Wiens, both of Sedalia, Colorado; Lauren Bocci, Erie, Colorado; Hannah Nelson, Ellisville, Missouri; Sarah Swor, Chico, Texas; and Terry Wiens, Edmond, Oklahoma; to become members of the Wiens Family Group, and with Timothy D. Wiens and Thomas J. Wiens, to retain voting shares of FirsTier II Bancorp., and thereby indirectly retain shares of FirsTier Bank.

2. The Alice M. Dittman 2011 Irrevocable Trust, John F. Dittman, as trustee, and Susan G. Dittman, all of Lincoln, Nebraska; to join the Dittman Family Group, a group acting in concert, to retain voting shares of Cornhusker Growth Corporation, and thereby indirectly retain voting shares of Cornhusker Bank, both of Lincoln, Nebraska

Board of Governors of the Federal Reserve System, March 1, 2022.

Michele Taylor Fennell,
Deputy Associate Secretary of the Board.

[FR Doc. 2022-04647 Filed 3-3-22; 8:45 am]

BILLING CODE 6210-01-P